DEPARTMENT OF ENERGY

Federal Energy Regulatory Commission

[Project No. 2195-011]

Clackamas River Hydroelectric Project; Portland General Electric Company, Clackamas County, OR; Notice of Availability of the Draft Environmental Impact Statement for the Clackamas River Hydroeletric Project and Intention To Hold a Public Meeting

June 16, 2006.

In accordance with the National Environmental Policy Act of 1969 and the Federal Energy Regulatory Commission (Commission or FERC) regulations contained in the Code of Federal Regulations (CFR) (18 CFR part 380 [FERC Order No. 486, 52 FR 47897]) the Office of Energy Projects staff (staff) reviewed the application for a New Major License for the Clackamas River Hydroelectric Project. Staff prepared a draft environmental impact statement (DEIS) for the project which is located on the Clackamas River, Clackamas County, Oregon.

The DEIS contains staff's analysis of the potential environmental effects of the project and concludes that licensing the project, with staff's recommended measures, would not constitute a major federal action significantly affecting the quality of the human environment. Copies of the DEIS have been sent to Federal, state, and local agencies; public interest groups; and individuals on the Commission's mailing list.

A copy of the DEIS is available for review at the Commission's Public Reference Room or may be viewed on the Commission's Web site at http://www.ferc.gov using the “e-Library” link. Enter the docket number (P-2195), to access the document. For assistance, contact FERC Online Support at FERCOnlineSupport@ferc.gov or toll-free at (866) 208-2376, or for TTY, contact (202) 502-8659.

Comments should be filed with Magalie R. Salas, Secretary, Federal Energy Regulatory Commission, 888 First Street, NE., Washington, DC 20426. All comments must be filed by August 7, 2006, and should reference Project No. 2195-011. Comments may be filed electronically via the Internet in lieu of paper. The Commission strongly encourages electronic filings. See 18 CFR 385.2001(a)(1)(iii) and instructions on the Commission's Web site at http://www.ferc.gov under the eLibrary link.

In addition to or in lieu of sending written comments, you are invited to attend a public meeting that will be held to receive comments on the draft EIS. The time and location of the meeting is as follows:

Date: July 28, 2006.

Time: 9:30 a.m.-4:30 p.m.

Place: 2-World Trade Center—Plaza Room-Ground Floor.

Address: 121 S.W. Salmon Street, Portland, Oregon.

At this meeting, resource agency personnel and other interested persons will have the opportunity to provide oral and written comments and recommendations regarding the draft EIS. The meeting will be recorded by a court reporter, and all statements (verbal and written) will become part of the Commission's public record for the project.

For further information, please contact: John Blair at (202) 502-6092 or at john.blair@ferc.gov.

Magalie R. Salas,
Secretary.

[FR Doc. E6-9806 Filed 6-21-06; 8:45 am]

BILLING CODE 6717-01-P